DEPARTMENT OF THE INTERIOR

National Park Service

[NPS-WASO-NAGPRA-13718: PPWOCRADN0-PCU00RP14.R50000]

Notice of Inventory Completion: Indiana Department of Natural Resources, Division of Historic Preservation and Archaeology, Indianapolis, IN

AGENCY: National Park Service, Interior.

ACTION: Notice.

SUMMARY: The Indiana Department of Natural Resources, Division of Historic Preservation and Archaeology (DHPA) has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the Indiana Department of Natural Resources DHPA through the University of Indianapolis. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the Indiana Department of Natural Resources DHPA through the University of Indianapolis at the address in this notice by September 30, 2013.

ADDRESSES: Dr. Christopher W. Schmidt, University of Indianapolis, 1400 E. Hanna Ave., Indianapolis, IN 46227, telephone (317) 788-2103.

SUPPLEMENTARY INFORMATION: Notice is here given in accordance with the Native American Graves Protection and Repatriation Act (NAGPRA), 25 U.S.C. 3003, of the completion of an inventory of human remains and associated funerary objects under the control of Indiana Department of Natural Resources DHPA and in the physical custody of the University of Indianapolis. The human remains and associated funerary objects were removed from the Meyer Site in Spencer County, IN.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the University of Indianapolis professional staff in consultation with representatives of the Eastern Shawnee Tribe of Oklahoma; Miami Tribe of Oklahoma; and the Pokagon Band of the Potawatomi Indians, Michigan and Indiana.

History and Description of the Remains

In 2004, human remains representing, at minimum, 30 individuals were removed from site 12SP1082 (Meyer site), in Spencer County, IN. The remains were excavated by archeologist Anne Bader and transferred to the Indiana Department of Natural Resources and the University of Indianapolis. No known individuals were identified. The 3,562 associated funerary objects include 20 bifaces; 11 bone pins; 4 bone beads; 3 Matanzas points; 3 chert drills; 2 bone awls; 1 knife; 1 unidentified point; and 3,517 artifacts found nearby including shell, animal bone, nutshell, hematite, charcoal, and chert flakes.

Determinations Made by the Indiana Department of Natural Resources DHPA

Officials of the Indiana Department of Natural Resources DHPA have determined that:

• Pursuant to 25 U.S.C. 3001(9), the human remains described in this notice are Native American based on morphological characteristics and cultural treatments.

• Pursuant to 25 U.S.C. 3001(9), the human remains described in this notice represent the physical remains of 30 individuals of Native American ancestry.

• Pursuant to 25 U.S.C. 3001(3)(A), the 3,562 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• Treaties, Acts of Congress, or Executive Orders, indicate that the land from which the Native American human remains and associated funerary objects were removed is the aboriginal land of the Eastern Shawnee Tribe of Oklahoma; Miami Tribe of Oklahoma; and the Pokagon Band of the Potawatomi Indians, Michigan and Indiana.

• Pursuant to 43 CFR 10.11(c)(1), the disposition of the human remains and associated funerary objects may be to the Eastern Shawnee Tribe of Oklahoma; Miami Tribe of Oklahoma; and the Pokagon Band of the Potawatomi Indians, Michigan and Indiana.

Additional Requestors and Disposition

Representatives of any Indian tribe or Native Hawaiian organization not identified in this notice that wish to request transfer of control of these human remains and associated funerary objects should submit a written request with information in support of the request to Dr. Christopher W. Schmidt, University of Indianapolis, 1400 E. Hanna Ave., Indianapolis, IN 46227, telephone (317) 788-2103, by September 30, 2013. After that date, if no additional requestors have come forward, transfer of control of the human remains and associated funerary objects to the Eastern Shawnee Tribe of Oklahoma; Miami Tribe of Oklahoma; and the Pokagon Band of the Potawatomi Indians, Michigan and Indiana may proceed.

The Indiana Department of Natural Resources DHPA is responsible for notifying the Eastern Shawnee Tribe of Oklahoma; Miami Tribe of Oklahoma; and the Pokagon Band of the Potawatomi Indians, Michigan and Indiana that this notice has been published.

Dated: August 6, 2013.
Sherry Hutt,
Manager, National NAGPRA Program.

[FR Doc. 2013-21251 Filed 8-29-13; 8:45 am]

BILLING CODE 4312-50-P